DEPARTMENT OF TRANSPORTATION

Federal Aviation Administration

[Docket No. FAA-2019-0756]

Agency Information Collection Activities: Requests for Comments; Clearance of a Renewed Approval of Information Collection: Aging Aircraft Program (Widespread Fatigue Damage)

AGENCY: Federal Aviation Administration (FAA), DOT.

ACTION: Notice and request for comments.

SUMMARY: In accordance with the Paperwork Reduction Act of 1995, the FAA invites public comments about our intention to request Office of Management and Budget (OMB) approval to renew an information collection. The Federal Register Notice with a 60-day comment period soliciting comments on the following collection of information was published on October 21, 2019. The collection involves submittal of limits of validity of engineering data that supports the structural maintenance program (hereafter referred to as LOV) for certain airplane models. The information to be collected will be used to demonstrate compliance with FAA regulations requiring establishment and incorporation of LOV into the airplane's structural maintenance program.

DATES: Written comments should be submitted by July 6, 2020.

ADDRESSES: Interested persons are invited to submit written comments on the proposed information collection to the Office of Information and Regulatory Affairs, Office of Management and Budget. Comments should be addressed to the attention of the Desk Officer, Department of Transportation/FAA, and sent via email to oira_submission@omb.eop.gov, or faxed to (202) 395-6974, or mailed to the Office of Information and Regulatory Affairs, Office of Management and Budget, Docket Library, Room 10102, 725 17th Street NW, Washington, DC 20503.

FOR FURTHER INFORMATION CONTACT: Walter M. Sippel by email at: Walter.Sippel@faa.gov; phone: (206) 231-3216.

SUPPLEMENTARY INFORMATION: Public Comments Invited: You are asked to comment on any aspect of this information collection, including (a) whether the proposed collection of information is necessary for FAA's performance; (b) the accuracy of the estimated burden; (c) ways for FAA to enhance the quality, utility, and clarity of the information collection; and (d) ways that the burden could be minimized without reducing the quality of the collected information. The agency will summarize and/or include your comments in the request for OMB's clearance of this information collection.

OMB Control Number: 2120-0743.

Title: Aging Aircraft Program (Widespread Fatigue Damage).

Form Numbers: There are no FAA forms associated with this collection.

Type of Review: Renewal of an information collection.

Background: The Federal Register Notice with a 60-day comment period soliciting comments on the following collection of information was published on October 21, 2019 (84 FR 56281). The FAA did not receive any comments.

The “Aging Aircraft Program (Widespread Fatigue Damage)” final rule amended FAA regulations pertaining to certification and operation of transport category airplanes to preclude widespread fatigue damage in those airplanes. This collection requires that design approval holders submit LOV to the responsible Aircraft Certification Service office for approval to demonstrate compliance with § 26.21 or § 26.23, as applicable. This collection also requires that operators submit the LOV to their Principal Maintenance Inspectors to demonstrate compliance with § 121.1115 or § 129.115, as applicable.

Respondents: Approximately 27 design approval holders and operators.

Frequency: Information is collected on occasion.

Estimated Average Burden per Response: 2.72 hours.

Estimated Total Annual Burden: 408 hours.

Issued in Des Moines, WA, on May 29, 2020.
Paul R. Siegmund,
Acting Manager, Transport Standards Branch, Policy and Innovation Division, Aircraft Certification Service.

[FR Doc. 2020-12020 Filed 6-3-20; 8:45 am]

BILLING CODE 4910-13-P